DEPARTMENT OF HOMELAND SECURITY

Federal Emergency Management Agency

[Docket ID FEMA-2014-0002: Internal Agency Docket No. FEMA-B-1417]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Arizona:
Maricopa | City of Phoenix (13-09-1002P) | The Honorable Greg Stanton, Mayor, City of Phoenix, 200 West Washington Street, 11th Floor, Phoenix, AZ 85003 | Street Transportation Department, 200 West Washington Street, 5th Floor, Phoenix, AZ 85003 | http://www.msc.fema.gov/lomc | June 6, 2014 | 040051
Maricopa | City of Scottsdale (13-09-2519P) | The Honorable W.J. Lane, Mayor, City of Scottsdale, 3939 North Drinkwater Boulevard, Scottsdale, AZ 85251 | City Hall, 3939 North Drinkwater Boulevard, Scottsdale, AZ 85251 | http://www.msc.fema.gov/lomc | May 16, 2014 | 045012
Maricopa | City of Scottsdale (13-09-2520P) | The Honorable W.J. Lane, Mayor, City of Scottsdale, 3939 North Drinkwater Boulevard, Scottsdale, AZ 85251 | City Hall, 3939 North Drinkwater Boulevard, Scottsdale, AZ 85251 | http://www.msc.fema.gov/lomc | May 23, 2014 | 045012
California:
Nevada | Town of Truckee (13-09-1067P) | The Honorable Patrick Flora, Mayor, Town of Truckee, 10183 Truckee Airport Road, Truckee, CA 96161 | Planning Division, 10183 Truckee Airport Road, Truckee, CA 96161 | http://www.msc.fema.gov/lomc | May 19, 2014 | 060762
Riverside | City of Indio (13-09-3081P) | The Honorable Michael Wilson, Mayor, City of Indio, 100 Civic Center Mall, Indio, CA 92201 | City Hall, 100 Civic Center Mall, Indio, CA 92201 | http://www.msc.fema.gov/lomc | May 12, 2014 | 060255
Sacramento | City of Sacramento (13-09-0004P) | The Honorable Kevin Johnson, Mayor, City of Sacramento, 915 I Street, 5th Floor, Sacramento, CA 95814 | Stormwater Management Department, 1395 35th Avenue, Sacramento, CA 95822 | http://www.msc.fema.gov/lomc | May 12, 2014 | 060266
Sacramento | Unincorporated areas of Sacramento County (13-09-0004P) | The Honorable Susan Peters, Chair, Sacramento County Board of Supervisors, 700 H Street, Room 2450, Sacramento, CA 95814 | Municipal Services Agency, Department of Water Resources, 827 7th Street, Suite 301, Sacramento, CA 95814 | http://www.msc.fema.gov/lomc | May 12, 2014 | 060262
San Diego | City of San Diego (13-09-1496P) | The Honorable Todd Gloria, Interim Mayor, City of San Diego, 202 C Street, 11th Floor, San Diego, CA 92101 | Development Services Center, 1222 1st Avenue, 3rd Floor, San Diego, CA 92101 | http://www.msc.fema.gov/lomc | May 23, 2014 | 060295
Sutter | City of Live Oak (14-09-0812P) | The Honorable Steve Alvarado, Mayor, City of Live Oak, 9955 Live Oak Boulevard, Live Oak, CA 95953 | Building Department, 9955 Live Oak Boulevard, Live Oak, CA 95953 | http://www.msc.fema.gov/lomc | June 13, 2014 | 060395
Colorado:
Elbert | Unincorporated areas of Elbert County (13-08-1173P) | The Honorable Robert Rowland, Chairman, Elbert County Board of Commissioners, P.O. Box 7, Kiowa, CO 80117 | Elbert County Community and Development Services Department, P.O. Box 7, Kiowa, CO 80117 | http://www.msc.fema.gov/lomc | May 23, 2014 | 080055
Florida:
Charlotte | Unincorporated areas of Charlotte County (14-04-0121P) | The Honorable Ken Doherty, Chairman, Charlotte County Board of Commissioners, 18500 Murdock Circle, Port Charlotte, FL 33948 | Charlotte County Community Development Department, 18500 Murdock Circle, Port Charlotte, FL 33948 | http://www.msc.fema.gov/lomc | May 15, 2014 | 120061
Charlotte | Unincorporated areas of Charlotte County (14-04-0645P) | The Honorable Ken Doherty, Chairman, Charlotte County Board of Commissioners, 18500 Murdock Circle, Port Charlotte, FL 33948 | Charlotte County Community Development Department, 18500 Murdock Circle, Port Charlotte, FL 33948 | http://www.msc.fema.gov/lomc | May 30, 2014 | 120061
Escambia | Pensacola Beach-Santa Rosa Island Authority (13-04-6705P) | The Honorable Thomas A. Campanella, Chairman, Pensacola Beach-Santa Rosa Island Authority Board of Commissioners, P.O. Box 1208, Pensacola Beach, FL 32562 | Development Department, 1 Via De Luna, Pensacola Beach, FL 32562 | http://www.msc.fema.gov/lomc | June 2, 2014 | 125138
Escambia | Unincorporated areas of Escambia County (13-04-7536P) | The Honorable Gene M. Valentino, Chairman, Escambia County Board of Commissioners, 221 Palafox Place, Suite 400, Pensacola, FL 32502 | Escambia County Development Services Department, 3363 West Park Place, Pensacola, FL 32505 | http://www.msc.fema.gov/lomc | June 16, 2014 | 120080
Pinellas | City of Dunedin (13-04-7013P) | The Honorable Dave Eggers, Mayor, City of Dunedin, 542 Main Street, Dunedin, FL 34698 | Engineering Department, 542 Main Street, Dunedin, FL 34698 | http://www.msc.fema.gov/lomc | June 9, 2014 | 125103
Georgia:
Bryan | Unincorporated areas of Bryan County (13-04-1675P) | The Honorable Jimmy Burnsed, Chairman, Bryan County Board of Commissioners, 173 Davis Road, Richmond Hill, GA 31324 | Bryan County Planning and Zoning Department, 66 Captain Matthew Freeman Drive, Suite 201, Richmond Hill, GA 31324 | http://www.msc.fema.gov/lomc | May 15, 2014 | 130016
Coweta | City of Newnan (14-04-1178P) | The Honorable Keith Brady, Mayor, City of Newnan, 25 LaGrange Street, Newnan, GA 30263 | City Hall, 25 LaGrange Street, Newnan, GA 30263 | http://www.msc.fema.gov/lomc | May 30, 2014 | 130062
Muscogee | City of Columbus-Muscogee County (Consolidated Government) (12-04-2939P) | The Honorable Teresa Tomlinson, Mayor, City of Columbus-Muscogee County (Consolidated Government), 100 10th Street, Columbus, GA 31901 | Department of Engineering, 420 10th Street, Columbus, GA 31901 | http://www.msc.fema.gov/lomc | June 2, 2014 | 135158
North Carolina:
Avery | Town of Newland (14-04-0936P) | The Honorable Valerie Jaynes, Mayor, Town of Newland, P.O. Box 429, Newland, NC 28657 | Town Hall, 301 Cranberry Street, Newland, NC 28657 | http://www.msc.fema.gov/lomc | April 11, 2014 | 370012
Avery | Unincorporated areas of Avery County (14-04-0936P) | The Honorable Kenny Poteat, Chairman, Avery County Board of Commissioners, P.O. Box 640, Newland, NC 28657 | Avery County Planning Department, P.O. Box 640, Newland, NC 28657 | http://www.msc.fema.gov/lomc | April 11, 2014 | 370010
Buncombe | Unincorporated areas of Buncombe County (13-04-1379P) | Ms. Wanda Greene, Buncombe County Manager, 200 College Street, Suite 300, Asheville, NC 28801 | Buncombe County Planning Department, 46 Valley Street, Asheville, NC 28801 | http://www.msc.fema.gov/lomc | May 12, 2014 | 370031
Chatham | Unincorporated areas of Chatham County (13-04-7171P) | The Honorable Walter Petty, Chairman, Chatham County Board of Commissioners, P.O. Box 1809, Pittsboro, NC 27312 | Chatham County Planning Department, 80-A East Street, Pittsboro, NC 27312 | http://www.msc.fema.gov/lomc | May 2, 2014 | 370299
Forsyth | City of Winston-Salem (13-04-0816P) | The Honorable Allen Joines, Mayor, City of Winston-Salem, 101 North Main Street, Suite 150, Winston-Salem, NC 27101 | Inspections Department, 100 East 1st Street, Suite 328, Winston-Salem, NC 27101 | http://www.msc.fema.gov/lomc | May 13, 2014 | 375360
Guilford | City of Greensboro (13-04-6581P) | The Honorable Nancy Vaughn, Mayor, City of Greensboro, P.O. Box 3136, Greensboro, NC 27402 | Water Resources Department, Planning and Engineering Section, 2602 South Elm-Eugene Street, Greensboro, NC 27406 | http://www.msc.fema.gov/lomc | June 17, 2014 | 375351
Lenoir | City of Kinston (13-04-6410P) | The Honorable B.J. Murphy, Mayor, City of Kinston, 207 East King Street, Kinston, NC 28501 | City Hall, 207 East King Street, Kinston, NC 28501 | http://www.msc.fema.gov/lomc | June 13, 2014 | 370145
Rutherford | Town of Rutherfordton (14-04-0666P) | The Honorable Jimmy Dancy, Mayor, Town of Rutherfordton, 129 North Main Street, Rutherfordton, NC 28139 | Town Hall, 129 North Main Street, Rutherfordton, NC 28139 | http://www.msc.fema.gov/lomc | April 16, 2014 | 370219
Surry | Unincorporated areas of Surry County (14-04-0937P) | The Honorable Eddie Harris, Chairman, Surry County Board of Commissioners, 118 Hamby Road, Dobson, NC 27017 | Surry County Planning and Development Department, 122 Hamby Road, Dobson, NC 27017 | http://www.msc.fema.gov/lomc | April 11, 2014 | 370364
Transylvania | Unincorporated areas of Transylvania County (13-04-8461P) | The Honorable Mike Hawkins, Chairman, Transylvania County Board of Commissioners, 21 East Main Street, Brevard, NC 28712 | Transylvania County Inspections Department, 98 East Morgan Street, Brevard, NC 28712 | http://www.msc.fema.gov/lomc | May 9, 2014 | 370230
Union | City of Monroe (14-04-0931P) | The Honorable Bobby Kilgore, Mayor, City of Monroe, 300 West Crowell Street, Monroe, NC 28112 | City Hall, 300 West Crowell Street, Monroe, NC 28112 | http://www.msc.fema.gov/lomc | April 10, 2014 | 370236
Wake | Town of Garner (14-04-0933P) | The Honorable Ronnie Williams, Mayor, Town of Garner, 900 7th Avenue, Garner, NC 27529 | Town Hall, 900 7th Avenue, Garner, NC 27529 | http://www.msc.fema.gov/lomc | April 10, 2014 | 370240
South Carolina:
Lexington | Unincorporated areas of Lexington County (14-04-0721P) | The Honorable William B. Banning, Sr., Chairman, Lexington County Council, 2109 Beaver Lane, West Columbia, SC 29169 | Lexington County Planning Department, County Administration Building, 212 South Lake Drive, Lexington, SC 29072 | http://www.msc.fema.gov/lomc | June 6, 2014 | 450129
Richland | City of Columbia (14-04-0393P) | The Honorable Steve Benjamin, Mayor, City of Columbia, P.O. Box 147, Columbia, SC 29217 | Department of Engineering, P.O. Box 147, Columbia, SC 29217 | http://www.msc.fema.gov/lomc | May 26, 2014 | 450172

(Catalog of Federal Domestic Assistance No. 97.022, “Flood Insurance.”)

Dated: April 14, 2014.
Roy E. Wright,
Deputy Associate Administrator for Mitigation, Department of Homeland Security, Federal Emergency Management Agency.

[FR Doc. 2014-09734 Filed 4-28-14; 8:45 am]

BILLING CODE 9110-12-P